TENNESSEE VALLEY AUTHORITY

Meeting of the Regional Resource Stewardship Council

AGENCY: Tennessee Valley Authority (TVA).

ACTION: Notice of Federal Advisory Committee Act meeting.

SUMMARY: The TVA Regional Resource Stewardship Council (RRSC) will hold a meeting on March 27 and 28, 2023, regarding TVA's natural resources and stewardship matters in the Tennessee Valley.

DATES: The meeting will be held in Florence, Alabama at the Marriott Shoals Hotel and Spa, Monday, March 27, 2023, from 1 p.m. to 4:30 p.m. C.T. and Tuesday, March 28, 2023, from 12:30 p.m. to 4:15 p.m. C.T. RRSC council members are invited to attend the meeting in person. The public is invited to view the meeting virtually or to attend in-person. A one hour virtual or in-person public listening session will be held March 28, at 1:45 p.m. C.T. A link and instructions to view the meeting will be posted on TVA's RRSC website at www.tva.gov/rrsc at least one week prior to the scheduled meeting.

ADDRESSES: The public is invited to view the meeting virtually or attend in person. The in-person meeting will be held at the Marriott Shoals Hotel and Spa at 10 Hightower Pl, Florence, AL 35630. Anyone wishing to attend in person must preregister by 5 p.m. E.T. Thursday, March 23, 2023, by emailing bhaliti@tva.gov. Members of the public are also invited to speak either virtually or in person during a public listening session. Persons who wish to speak must preregister by 5 p.m. E.T. Thursday, March 23, 2023, by emailing bhaliti@tva.gov and specify whether they wish to speak virtually or in-person. Anyone needing special accommodations should let the contact below know at least one week in advance.

FOR FURTHER INFORMATION CONTACT: Bekim Haliti, bhaliti@tva.gov, 931-349-1894.

SUPPLEMENTARY INFORMATION: The RRSC is a discretionary advisory committee established under the authority of the Tennessee Valley Authority (TVA) in accordance with the provisions of the Federal Advisory Committee Act (FACA), as amended, 5 U.S.C., App. 2.

The meeting agenda includes the following:

Day 1—March 27

1. Welcome and Introductions

2. RRSC and TVA Meeting Update

3. TVA's Land and Habitat Stewardship

Day 2—March 28

4. Welcome and Review of Day 1

5. Valley Vision 2035 Update

6. Public Listening Session

7. Update on TVA's River Management

8. Update on TVA's Natural Resources

The RRSC will hear views of the public by providing a 1-hour public comment session starting March 28 at 1:45 p.m. C.T. Persons wishing to speak must register at bhaliti@tva.gov or call 931-349-1894 by 5:00 p.m. E.T. Thursday, March 23, 2023, and will be called on during the public listening session for up to five minutes to share their views. Written comments are also invited and may be emailed to bhaliti@tva.gov.

Dated: February 24, 2023.
Melanie Farrell,
Vice President, External Stakeholders and Regulatory Oversight, Tennessee Valley Authority.

[FR Doc. 2023-04347 Filed 3-2-23; 8:45 am]

BILLING CODE 8120-08-P